DEPARTMENT OF HEALTH AND HUMAN SERVICES

National Institutes of Health

Notice of Diabetes Mellitus Interagency Coordinating Committee Meeting

AGENCY: National Institutes of Health, HHS.

ACTION: Notice.

SUMMARY: The Diabetes Mellitus Interagency Coordinating Committee (DMICC) will hold a hybrid (virtual/in-person) meeting on November 12, 2024. The topic for this meeting will be “Opportunities for Research Supported by the Special Statutory Funding Program for Type 1 Diabetes Research.” The meeting is open to the public.

DATES: The meeting will be held on November 12, 2024, from 8:30 a.m. to 5:00 p.m. EDT.

ADDRESSES: This hybrid meeting will convene virtually via the Zoom online video conferencing platform or in person at: National Institutes of Health Campus, Natcher Conference Center (Building 45), Room E1/E2, 45 Center Drive, Bethesda, MD 20894. Attendance for the meeting will be accessible to members of the public who register at www.scgcorp.com/DMICC2024/Registration by November 5, 2024.

FOR FURTHER INFORMATION CONTACT: For further information concerning this meeting, including a draft agenda, which will be posted when available, see the DMICC website, https://www.niddk.nih.gov/about-niddk/advisory-coordinating-committees/diabetes-mellitus-interagency-coordinating-committee-dmicc?dkrd=lgdmn0022, or contact Dr. William Cefalu, Executive Secretary of the Diabetes Mellitus Interagency Coordinating Committee, National Institute of Diabetes and Digestive and Kidney Diseases, 6707 Democracy Boulevard, Democracy 2, Room 6037, Bethesda, MD 20892, telephone: 301-435-1011; email: dmicc@mail.nih.gov.

SUPPLEMENTARY INFORMATION: In accordance with 42 U.S.C. 285c-3, the DMICC, chaired by the National Institute of Diabetes and Digestive and Kidney Diseases (NIDDK) and comprising members of the Department of Health and Human Services and other federal agencies that support diabetes-related activities, facilitates cooperation, communication, and collaboration on diabetes among government entities. DMICC meetings, held several times a year, provide an opportunity for Committee members to learn about and discuss current and future diabetes programs in DMICC member organizations and to identify opportunities for collaboration. The November 12, 2024 DMICC meeting will focus on “Opportunities for Research Supported by the Special Statutory Funding Program for Type 1 Diabetes Research.”

Any interested person may file written comments with the Committee by forwarding their statement to the contact person listed on this notice. The statement should include the name, address, telephone number and, when applicable, the business or professional affiliation of the interested person. Because of time constraints for the meeting, there will not be time on the agenda for oral comments from members of the public.

Members of the public who would like to receive email notification about future DMICC meetings should register for the listserv available on the DMICC website, https://www.niddk.nih.gov/about-niddk/advisory-coordinating-committees/diabetes-mellitus-interagency-coordinating-committee-dmicc?dkrd=lgdmn0022.

Dated: September 24, 2024.
William T. Cefalu,
Director, Division of Diabetes, Endocrinology, and Metabolic Diseases, National Institute of Diabetes and Digestive and Kidney Diseases, National Institutes of Health.

[FR Doc. 2024-22863 Filed 10-2-24; 8:45 am]

BILLING CODE 4140-01-P